DEPARTMENT OF THE INTERIOR

National Park Service

General Management Plans, and Final Environmental Impact Statements, Wupatki and Sunset Crater Volcano National Monuments, Arizona

AGENCY: National Park Service, Department of the Interior.

ACTION: Notice of availability of the Final Environmental Impact Statement/General Management Plans for Wupatki and Sunset Crater Volcano National Monuments.

SUMMARY: Pursuant to section 102(2)(C) the National Environmental Policy Act of 1969, the National Park Service announces the availability of Final Environmental Impact Statement/General Management Plans (FEIS/GMP) for both Wupatki and Sunset Crater Volcano National Monuments, Arizona.

DATES: The FEIS/GMPs were on public review from November 6, 2001 through January 7, 2002. Responses to public comment are addressed in the documents. A 30-day no-action period will follow the Environmental Protection Agency's Notice of Availability of the FEIS/GMPs.

ADDRESSES: Copies of the FEIS/GMPs are available from Sam R. Henderson, Superintendent, Wupatki and Sunset Crater Volcano National Monuments, 6400 N. Highway 89, Flagstaff, Arizona, 86004. Public reading copies of the FEIS/GMPs will be available for review at the following locations:

Office of the Superintendent, 6400 N. Highway 89, Flagstaff, Arizona, 86004, Telephone: 928-526-1157.

Planning and Environmental Quality, Intermountain Support Office—Denver (room 20), National Park Service, 12795 W. Alameda Parkway, Lakewood, CO 80228, Telephone: (303) 969-2377.

Office of Public Affairs, National Park Service, Department of Interior, 18th and C Streets NW., Washington, DC 20240, Telephone: (202) 208-6843.

FOR FURTHER INFORMATION CONTACT: Sam R. Henderson, Superintendent, Wupatki and Sunset Crater Volcano National Monuments, at the above address and telephone number.

Dated: December 12, 2002.
Michael Snyder,
Deputy Director, Intermountain Region, National Park Service.

[FR Doc. 03-998 Filed 1-15-03; 8:45 am]

BILLING CODE 4310-70-P